NUCLEAR REGULATORY COMMISSION

Draft Regulatory Guides; Extension of comment period

AGENCY: Nuclear Regulatory Commission.

ACTION: Extension of Comment Period.

SUMMARY: On December 14, 2001 (66 FR 64893), the U.S. Nuclear Regulatory Commission (NRC) published for public comment draft regulatory guide DG-1111, “Atmospheric Relative Concentrations for Control Room Radiological Habitability Assessments at Nuclear Power Plants.” The public comment period was to have expired on March 15, 2002. On January 25, 2002 (67 FR 3743), NRC published for public comment draft regulatory guide DG-1113, “Methods and Assumptions for Evaluating Radiological Consequences of Design Basis Accidents at Light-Water Nuclear Power Reactors.” The public comment period was to have expired on April 30, 2002. On March 28, 2002 (67 FR 14992), NRC published for public comment draft regulatory guides DG-1114, “Control Room Habitability at Light-Water Nuclear Power Reactors,” and DG-115, “Demonstrating Control Room Envelope Integrity at Nuclear Power Reactors.” The public comment period was to have expired on June 28, 2002. Although issued for public comment individually, these draft guides are all related to control room habitability. The NRC received a request to extend the comment period for all four draft guides to allow reviewers an opportunity to review and comment on interrelationships between the guides. After considering of the request, NRC has decided to extend the public comment period for these guides until September 6, 2002.

DATES: The public comment periods for DG-1111, DG-1113, DG-1114, and DG-1115 have been extended and now expire on September 6, 2002. Comments received after this date will be considered, if it is practical to do so, but the Commission is able to assure consideration only for comments received on or before this date.

ADDRESSES: Submit written comments to: Michael T. Lesar, Chief, Rules and Directives Branch, Division of Administrative Services, Office of Administration, U.S. Nuclear Regulatory Commission, Mail Stop T-6D59, Washington, DC 20555-0001. Deliver comments to 11545 Rockville Pike, Rockville, Maryland, between 7:45 a.m. and 4:15 p.m., on Federal workdays. Copies of any comments received and documents related to this action may be examined at the NRC Public Document Room, One White Flint North, Public File Area O1-F21, 11545 Rockville Pike, Rockville, Maryland. Documents are also available electronically at NRC's Public Electronic Reading Room on the Internet at http://www.nrc.gov/reading-rm.html. From this site, the public can gain entry into NRC's Agencywide Documents Access and Management System(ADAMS), which provides text and image files of NRC's public documents. The ADAMS accession numbers for the proposed draft regulatory guides are ML013130132 for DG-1111, ML020160023 for DG-1113, ML020790125 for DG-1114, and ML020790191 for DG-1115. For more information, contact the NRC's Public Document Room reference staff by telephone at (800) 397-4209 or (301) 415-4737 by or e-mail to pdr@nrc.gov. The draft regulatory guides are also available on NRC's Web site at http://www.nrc.gov/reading-rm/adams.html. You may also send comments electronically from this Web site by clicking on the comment form. A copies of the proposed regulatory guides are also available for inspection, and copying for a fee, in the NRC's Public Document Room, One White Flint North, Public File Area O1-F21, 11555 Rockville Pike, Rockville, Maryland.

FOR FURTHER INFORMATION CONTACT: W. Mark Blumberg, (telephone (301) 415-1083, e-mail wmb1@nrc.gov or Stephen LaVie on (telephone (301) 415-1081, e-mail: sfl@nrc.gov.

Dated at Rockville, Maryland, this 11th day of July 2002.
For the Nuclear Regulatory Commission.
Michael R. Johnson,
Chief, Probabilistic Safety Analysis Branch, Division of Systems and Safety Analysis, Office of Nuclear Reactor Regulation.

[FR Doc. 02-18744 Filed 7-23-02; 8:45 am]

BILLING CODE 7590-01-P